DEPARTMENT OF ENERGY

10 CFR Part 430

[Docket Number EERE-2010-BT-TP-0021]

RIN 1904-AC08

Energy Conservation Program: Test Procedures for Residential Clothes Washers; Correction

AGENCY: Office of Energy Efficiency and Renewable Energy, Department of Energy.

ACTION: Final rule; correction.

SUMMARY: This final rule corrects the provisions for calculating the annual operating cost of residential clothes washers. In the final rule establishing new and amended test procedures for residential clothes washers, published in the Federal Register on March 7, 2012, and effective as of April 6, 2012, the U.S. Department of Energy (DOE) erroneously referenced the new test procedure, rather than the currently effective test procedure, in one section of the provisions for calculating annual operating cost.

DATES: This correction is effective April 24, 2012.

FOR FURTHER INFORMATION CONTACT:

Stephen L. Witkowski, U.S. Department of Energy, Office of Energy Efficiency and Renewable Energy, Building Technologies Program, EE-2J, 1000 Independence Avenue SW., Washington, DC 20585-0121. Telephone: (202) 586-7463. Email: Stephen.Witkowski@ee.doe.gov.

Elizabeth Kohl, Esq., U.S. Department of Energy, Office of General Counsel, GC-71, 1000 Independence Avenue SW., Washington, DC 20585-0121. Telephone: (202) 586-7796. Email: Elizabeth.Kohl@hq.doe.gov.

SUPPLEMENTARY INFORMATION: DOE published new and amended test procedures for residential clothes washers on March 7, 2012. 77 FR 13888. The current test procedure is codified at appendix J1 in 10 CFR part 430 subpart B. The March 2012 final rule amended certain provisions in appendix J1, established new clothes washer test procedures codified in a new appendix J2 in 10 CFR part 430 subpart B, and amended the procedures for calculating the annual operating cost in 10 CFR 430.23(j). Residential clothes washer manufacturers may continue to use appendix J1 to determine compliance of their products with energy conservation standards until the compliance date of any amended standards.

In the preamble to the March 2012 final rule, DOE described its intention to amend the annual operating cost calculation in 10 CFR 430.23(j) to incorporate the cost of energy consumed in standby and off modes, and to reflect an updated number of annual use cycles, for clothes washers tested using the new appendix J2. DOE intended to maintain the annual operating cost calculation for clothes washers tested using the currently effective appendix J1, which applies to residential clothes washers currently on the market. In the March 2012 final rule, DOE erroneously referenced appendix J2 in the provisions at newly designated 10 CFR 430.23(j)(1)(i), which are intended to apply to clothes washers tested using appendix J1. The remainder of the text in paragraph (i) correctly refers to appendix J1. The provisions for calculating the annual operating cost of clothes washers tested using appendix J2 are found at the newly created 10 CFR 430.23(j)(1)(ii).

This final rule amends 10 CFR 430.23(j)(1)(i) to reference appendix J1 rather than appendix J2. This correction also applies to the parenthetical note in 430.23(j)(1)(i), which should reference the introductory note in appendix J1 rather than appendix J2.

For clarity and consistency between 430.23(j)(1)(i) and 430.23(j)(1)(ii), this final rule also amends 430.23(j)(1)(ii) to include a parenthetical note, analogous to the parenthetical note in 430.23(j)(1)(i), referencing the introductory note in appendix J2.

Procedural Issues and Regulatory Review

The regulatory reviews conducted for this rulemaking are those set forth in the March 2012 final rule that originally codified amendments to DOE's test procedures for residential clothes washers. The amendments in the March 2012 final rule became effective April 6, 2012.

Pursuant to the Administrative Procedure Act, 5 U.S.C. 553(b), DOE has determined that notice and prior opportunity for comment on this rule are unnecessary and contrary to the public interest. The provisions in 10 CFR 430.23(j)(1)(i) are intended to apply to residential clothes washers currently on the market, as indicated by the remaining text of paragraph (i) that follows the erroneous reference to appendix J2. In addition, this correction is needed to ensure clarity regarding the annual energy cost calculated according to 430.23(j)(1)(i), which is required to be displayed on the Federal Trade Commission's current EnergyGuide Label for residential clothes washers as the primary indicator of product energy efficiency. (16 CFR 305.5(a)(6); 305.11(f)(5); (f)(8)) For these reasons, DOE has also determined that there is good cause to waive the 30-day delay in effective date.

List of Subjects in 10 CFR Part 430

Administrative practice and procedure, Confidential business information, Energy conservation, Household appliances, Imports, Incorporation by reference, Intergovernmental relations, Small businesses.

Issued in Washington, DC, on April 17, 2012.
Kathleen B. Hogan,
Deputy Assistant Secretary, Energy Efficiency and Renewable Energy.

For the reasons stated in the preamble, part 430 of title 10 of the Code of Federal Regulations is corrected by making the following correcting amendments:

PART 430—ENERGY CONSERVATION PROGRAM FOR CONSUMER PRODUCTS

1. The authority citation for part 430 continues to read as follows:

Authority: 42 U.S.C. 6291-6309; 28 U.S.C. 2461 note.

2. Section 430.23 is amended by revising paragraphs (j)(1)(i) introductory text and (ii) introductory text to read as follows:

§ 430.23 Test procedures for the measurement of energy and water consumption.

* * * * *

(j) * * *

(1) * * *

(i) When using appendix J1 (see the note at the beginning of appendix J1),

* * * * *

(ii) When using appendix J2 (see the note at the beginning of appendix J2),

* * * * *

[FR Doc. 2012-9841 Filed 4-23-12; 8:45 am]

BILLING CODE 6450-01-P